ENVIRONMENTAL PROTECTION AGENCY

40 CFR Part 52

[IL197-1b; FRL-6970-5]

Approval and Promulgation of State Implementation Plans; Illinois

AGENCY: Environmental Protection Agency (EPA).

ACTION: Proposed rule.

SUMMARY: The United States Environmental Protection Agency (USEPA) is proposing to approve a negative declaration submitted by the State of Illinois which indicates there is no need for a regulation covering the industrial wastewater category in the Chicago ozone nonattainment area. The Chicago ozone nonattainment area includes Cook County, DuPage County, Aux Sable and Goose Lake Townships in Grundy County, Kane County, Oswego Township in Kendall County, Lake County, McHenry County and Will County. The State's negative declaration regarding industrial wastewater category sources was submitted to USEPA in a letter dated December 23, 1999.

DATES: Written comments must be received on or before May 29, 2001.

ADDRESSES: Written comments should be mailed to: J. Elmer Bortzer, Chief, Regulation Development Section, Air Programs Branch (AR-18J), Environmental Protection Agency, Region 5, 77 West Jackson Boulevard, Chicago, Illinois 60604.

Copies of the State submittal are available for inspection at: Regulation Development Section, Air Programs Branch (AR-18J), Environmental Protection Agency, Region 5, 77 West Jackson Boulevard, Chicago, Illinois 60604.

FOR FURTHER INFORMATION CONTACT: Randolph O. Cano, Environmental Protection Specialist, Regulation Development Section, Air Programs Branch (AR-18J), Environmental Protection Agency, Region 5, 77 West Jackson Boulevard, Chicago, Illinois 60604, (312) 886-6036.

SUPPLEMENTARY INFORMATION: Throughout this document wherever “we”, “us” or “our” are used we mean USEPA.

Table of Contents

I. What action is USEPA taking today?

II. Where can I find more information about this proposal and the corresponding Direct Final Rule?

I. What Action Is USEPA Taking Today?

USEPA is proposing to approve a negative declaration submitted by the State of Illinois on December 23, 1999. This negative declaration concerns a source category located in the Chicago ozone nonattainment area, which is classified as a severe nonattainment area for the pollutant ozone. The negative declaration indicates that the State has searched its emissions inventory and operating permits for the Chicago ozone nonattainment area and determined there are no unregulated sources with a potential to emit 25 tons per year or more of volatile organic compounds (VOC) in the industrial wastewater category.

II. Where Can I Find More Information About This Proposal and the Direct Final Rule?

For additional information see the direct final rule published in the final rules section of this Federal Register.

Dated: April 17, 2001.
David A. Ullrich,
Acting Regional Administrator, Region 5.

[FR Doc. 01-10428 Filed 4-26-01; 8:45 am]

BILLING CODE 6560-50-P